DEPARTMENT OF COMMERCE

International Trade Administration

[A-533-869]

Certain New Pneumatic Off-the-Road Tires From India: Postponement of Preliminary Determination of Antidumping Duty Investigation

AGENCY: Enforcement and Compliance, International Trade Administration, Department of Commerce.

DATES: Effective June 6, 2016.

FOR FURTHER INFORMATION CONTACT: Lilit Astvatsatrian at (202) 482-6412 or Trisha Tran at (202) 482-4852; AD/CVD Operations, Enforcement and Compliance, International Trade Administration, U.S. Department of Commerce, 14th Street and Constitution Avenue NW., Washington, DC 20230.

SUPPLEMENTARY INFORMATION:

Background

On February 10, 2016, the Department of Commerce (Department) published a notice of initiation of an antidumping duty investigation on certain new pneumatic off-the-road tires (off road tires) from India.¹ Section 733(b)(1)(A) of the Tariff Act of 1930, as amended (the Act), and 19 CFR 351.205(b)(1) state the Department will make a preliminary determination no later than 140 days after the date of the initiation. The current deadline for the preliminary determination of this investigation is no later than June 22, 2016.

¹ See Certain New Pneumatic Off-the-Road Tires from India and the People's Republic of China: Initiation of Less-Than-Fair Value Investigations, 81 FR 7073 (February 10, 2016).

Postponement of Preliminary Determination

On May 3, 2016, Titan Tire Corporation and the United Steel, Paper and Forestry, Rubber, Manufacturing, Energy, Allied Industrial and Service Workers International Union, AFL-CIO, CLC (USW) (collectively, Petitioners) made a timely request, pursuant to 19 CFR 351.205(e), for postponement of the preliminary determination, in order to provide the Department with sufficient time to develop the record in this proceeding through additional questionnaires, which Petitioners will in turn need to analyze and possibly comment on. Because there are no compelling reasons to deny Petitioners' request, in accordance with section 773(c)(1)(A) of the Act, the Department is postponing the deadline for the preliminary determination by 50 days.

For the reasons stated above, the Department, in accordance with section 733(c)(1)(A) of the Act, is postponing the deadline for the preliminary determination to no later than 190 days after the date on which the Department initiated this investigation. Therefore, the new deadline for the preliminary determination is August 11, 2016. In accordance with section 735(a)(1) of the Act, the deadline for the final determination of this investigation will continue to be 75 days after the date of the preliminary determination, unless postponed at a later date.

This notice is issued and published pursuant to section 733(c)(2) of the Act and 19 CFR 351.205(f)(1).

Dated: May 31, 2016.
Paul Piquado,
Assistant Secretary for Enforcement and Compliance.

[FR Doc. 2016-13278 Filed 6-3-16; 8:45 am]

BILLING CODE 3510-DS-P